NUCLEAR REGULATORY COMMISSION

10 CFR Part 72

[NRC-2018-0265]

RIN 3150-AK20

List of Approved Spent Fuel Storage Casks: TN Americas LLC Standardized Advanced NUHOMS® System, Certificate of Compliance No. 1029, Amendment No. 4

AGENCY: Nuclear Regulatory Commission.

ACTION: Direct final rule; confirmation of effective date.

SUMMARY: The U.S. Nuclear Regulatory Commission (NRC) is confirming the effective date of March 12, 2019, for the direct final rule that was published in the Federal Register on December 27, 2018. This direct final rule amended the NRC's spent fuel storage regulations by revising the “List of approved spent fuel storage casks” to include Amendment No. 4 to Certificate of Compliance No. 1029 for the TN Americas LLC Standardized Advanced NUHOMS® Horizontal Modular Storage System.

DATES: Effective Date: The effective date of March 12, 2019, for the direct final rule published December 27, 2018 (83 FR 66585), is confirmed.

ADDRESSES: Please refer to Docket ID NRC-2018-0265 when contacting the NRC about the availability of information for this action. You may obtain publicly-available information related to this action by any of the following methods:

• Federal Rulemaking Website: Go to http://www.regulations.gov and search for Docket ID NRC-2018-0265. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The proposed amendment to the certificate of compliance, the proposed changes to the technical specifications, and the preliminary safety evaluation report are available in ADAMS under Accession No. ML18263A044. The final amendment to the certificate of compliance, final changes to the technical specifications, and final safety evaluation report can also be viewed in ADAMS under Accession No. ML19036A557.

• NRC's PDR: You may examine and purchase copies of public documents at the NRC's PDR, Room O1-F21, One White Flint North, 11555 Rockville Pike, Rockville, Maryland 20852.

FOR FURTHER INFORMATION CONTACT: William Allen, Office of Nuclear Material Safety and Safeguards; telephone: 301-415-6877; email: William.Allen@nrc.gov or Edward M. Lohr, Office of Nuclear Material Safety and Safeguards; telephone: 301-415-0253; email: Edward.Lohr@nrc.gov. Both are staff of the U.S. Nuclear Regulatory Commission, Washington, DC 20555-0001.

SUPPLEMENTARY INFORMATION:

On December 27, 2018 (83 FR 66585), the NRC published a direct final rule amending its regulations in part 72 of title 10 of the Code of Federal Regulations by revising the “List of approved spent fuel storage casks” to include Amendment No. 4 to Certificate of Compliance No. 1029 for the TN Americas LLC Standardized Advanced NUHOMS® Horizontal Modular Storage System. Amendment No. 4 revised the technical specifications of the certificate of compliance to: Clarify the applicability of unloading procedures and training modules relative to spent fuel pool availability; credit the use of the installed temperature monitoring system specified in lieu of performing daily visual vent inspections; establish dose rates on the front inlet bird screen and the door of the concrete storage module for the Advanced Horizontal Storage Module; modify the criteria for performing Advanced Horizontal Storage Module air vent visual inspections; identify the blocked vent time limitations for each of the 24PT1 and 24PT4 dry shielded canisters; and provide a new temperature rise value for the Advanced Horizontal Storage Module with a loaded 24PT4 dry shielded canister.

In the direct final rule, the NRC stated that if no significant adverse comments were received, the direct final rule would become effective on March 12, 2019. As described more fully in the direct final rule, a significant adverse comment is a comment where the commenter explains why the rule would be inappropriate, including challenges to the rule's underlying premise or approach, or would be ineffective or unacceptable without a change. Because no significant adverse comments were received, the direct final rule will become effective as scheduled.

Dated at Rockville, Maryland, this 12th day of February 2019.
For the Nuclear Regulatory Commission.
Cindy K. Bladey,
Chief, Regulatory Analysis and Rulemaking Support Branch, Division of Rulemaking, Office of Nuclear Material Safety and Safeguards.

[FR Doc. 2019-02492 Filed 2-14-19; 8:45 am]

BILLING CODE 7590-01-P